NUCLEAR REGULATORY COMMISSION

[Docket No. 50-285; NRC-2016-0096]

Omaha Public Power District; Fort Calhoun Station, Unit No. 1

AGENCY: Nuclear Regulatory Commission.

ACTION: License amendment application; withdrawal by applicant.

SUMMARY: The U.S. Nuclear Regulatory Commission (NRC) has granted the request of the Omaha Public Power District (the licensee) to withdraw its license amendment application dated April 4, 2016, for a proposed amendment to Renewed Facility Operating License No. DPR-40 for the Fort Calhoun Station, Unit No. 1 (FCS). The proposed amendment would have modified License Condition D, Fire Protection Program, by withdrawing the commitments in REC-119 and REC-120 to implement certain plant modifications as stated in License Condition Paragraph 3.D.(3)(b).

DATES: The license amendment was withdrawn by the licensee on August 18, 2016.

ADDRESSES: Please refer to Docket ID NRC-2016-0096 when contacting the NRC about the availability of information regarding this document. You may obtain publicly-available information related to this document using any of the following methods:

• Federal Rulemaking Web site: Go to http://www.regulations.gov and search for Docket ID NRC-2016-0096. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Carl F. Lyon, Office of Nuclear Reactor Regulation, U.S. Nuclear Regulatory Commission, Washington, DC 20555-0001; telephone: 301-415-2296, email: Fred.Lyon@nrc.gov.

SUPPLEMENTARY INFORMATION: The NRC has granted the request of the licensee to withdraw its April 4, 2016, license amendment application (ADAMS Accession No. ML16103A348), for a proposed amendment to Renewed Facility Operating License No. DPR-40 for the FCS, located in Washington County, Nebraska.

The proposed amendment would have modified License Condition D, Fire Protection Program, by withdrawing the commitments in REC-119 and REC-120 to implement certain plant modifications as stated in License Condition Paragraph 3.D.(3)(b), due to the fact that they are not necessary to meet the performance requirements of the risk-informed fire protection standard.

This proposed amendment was noticed in the Federal Register on June 7, 2016 (81 FR 36605). By letter dated August 18, 2016 (ADAMS Accession No. ML16231A512), the licensee withdrew its license amendment application.

Dated at Rockville, Maryland, this 24th day of August 2016.
For the Nuclear Regulatory Commission.
Carl F. Lyon,
Project Manager, Plant Licensing Branch IV-1, Division of Operating Reactor Licensing, Office of Nuclear Reactor Regulation.

[FR Doc. 2016-20807 Filed 8-29-16; 8:45 am]

BILLING CODE 7590-01-P